DEPARTMENT OF AGRICULTURE

Forest Service

Lolo National Forest Post Burn EIS, Lolo National Forest, Missoula, Mineral, and Sanders Counties, Montana

AGENCY: Forest Service, USDA.

ACTION: Notice; Intent to prepare environmental impact statement.

SUMMARY: The Forest Service will prepare an environmental impact statement on a proposal to implement post fire forest management and watershed rehabilitation activities.

DATES: Comments concerning the scope of the analysis should be received in writing by July 30, 2001.

ADDRESSES: Send written comments to: Team Leader, Lolo National Forest Post Burn EIS, Plains/Thompson Falls Ranger District, P.O. Box 429, Plains, MT, 59859.

FOR FURTHER INFORMATION CONTACT: Chris Partyka, Interdisciplinary Team Leader, (406) 826-4355. E-Mail: cpartyka@fs.fed.us.

SUPPLEMENTARY INFORMATION: An exceptional number of wildland fires burned on the Lolo National Forest in the summer of 2000. The direct effects of the fires, along with resource conditions caused by previous land uses, drive the need to conduct vegetation management and watershed rehabilitation activities in and near some of the burned areas.

The Proposed Action includes a variety of management activities on and near the Upper Ninemile Complex (19,900 acres), Alpine Divide (3,600 acres), Thompson-Flat Complex (9,500 acres), and Landowner (5,700 acres) fires. These activities include: (1) Salvaging approximately 5,000 acres of timber burned by moderate to high fire severities, (2) commercially thinning approximately 10,000 acres of unburned timber and timber burned by low severity fires, (3) salvaging approximately 100 acres of insect killer timber adjacent to the fire perimeters, (4) conducting prescribed burns (following salvage and commercial thinning activities) on approximately 1,600 acres, (5) conducting ecosystem-management prescribed burns on approximately 1,300 acres, (6) planting approximately 12,000 acres of areas burned by moderately-high to high fire severities where natural regeneration is absent or insufficient, (7) constructing approximately 3 miles of temporary road to access harvest areas, (8) reconstructing approximately 185 miles of deteriorating road, (9) decommissioning approximately 140 miles of unneeded roads, (10) removing or replacing up to 350 undersized or improperly positioned culverts (priority on structures that are fish passage barriers or that pose greatest potential for causing stream sedimentation), (11) evaluating need for and implementing stabilization and rehabilitation activities on approximately 30 miles of stream, (12) evaluating need for and implementing soil erosion control measures on approximately 14,000 acres burned by moderately-high to high fire severities, (13) completing fire line stabilization activities on approximately 14 miles of fire line near streams, and (14) providing interpretive information for 3 historical sites.

The purpose and need for the actions are to: (1) Provide wood fiber to support local communities that continue to be associated with commodity outputs from the National Forest, (2) provide for healthy stands and optimize timber growing potential in areas allocated for timber management within the Forest Plan, (3) improve vegetation structure in order to: (a) reduce future fire intensity, (b) reduce the potential for epidemic bark beetle infestations in “at-risk” stands, (c) improve habitat for flammulated owls, and (d) enhance the potential for old growth forest conditions in low elevation, drier, forest habitats, (4) reestablish or promote “at risk” ponderosa pine, western larch and whitebark pine tree species and other sensitive plant species, (5) reduce the potential for runoff, accelerated erosion, and sediment delivery to stream channels from roads, (6) reduce economic burdens associated with maintaining unneeded roads, (7) remove fish passage barriers at road/stream interfaces and improve fish habitat, (8) protect soil quality and stability, and (9) protect cultural and historical resources.

Overall guidance for land management activities in the project area is provided by the Lolo National Forest Plan (U.S. Department of Agriculture, 1986).

Several preliminary issues of concern have been identified regarding the Proposed Action. These issues include:

(1) Black Backed Woodpecker: Burned trees provide a food source and nesting habitat for Black Backed woodpecker. There is a concern that the removal of burned trees may affect population viability for this sensitive species.

(2) Lynx Habitat: The fires impacted suitable habitat for Canada Lynx. Course woody debris is an important component of denning habitat, and if a reburn does not occur, the fire areas are expected to produce denning and foraging habitat. There is a concern that post fire recovery of timber products would reduce or remove important denning habitat.

(3) Aquatic Habitat: Inappropriately sized or placed culverts at stream crossings can prevent upstream fish passage, thus reducing the ability of fish populations to persist in a healthy state or to recover from landscape disturbances such as wildfire. There is a concern that delays in eliminating migration barriers may impair function and recovery of fish populations, as well as increase the risk of sediment production and delivery to instream habitat.

(4) Water Quality: Streams in or downstream of the fire areas have been impacted by past management and by the wildfires of 2000. Two streams (Ninemile and Trout Creeks) are listed by the State of Montana as “Water Quality Impaired or Threatened” under section 303(d) of the Clean Water Act. Although the Proposed Action is intended to provide long-term benefits, there is a concern that the cumulative effects of past land use, the fires, and the Proposed Action may have short-term negative impacts to some watersheds.

(5) Forest Access: Some Forest roads have provided public access for decades. There is a concern that decommissioning these roads to improve water quality may conflict with long established public use patterns.

The Forest Service will consider a range of alternatives. One of these will be the “no action” alternative in which none of the proposed activities will be implemented. Additional alternatives will examine varying levels and locations of activities that could meet the purpose and need, as well as to respond to identified issues and other resource values.

The DEIS (Draft Environmental Impact Statement) will analyze the direct, indirect, and cumulative environmental effects of the proposed action and alternatives, including ongoing and reasonably foreseeable activities on National Forest System Lands and adjacent land ownerships within the project area. The DEIS will also disclose the analysis of site-specific mitigation measures and their effectiveness. The DEIS is expected to be filed with the EPA (Environmental Protection Agency) and made available for public review by October 2001.

The public is encouraged to take part in the process and to visit with Forest Service officials at any time during the analysis and prior to the decision. The Forest Service will be seeking information, comments, and assistance from Federal, State, and local agencies, Indian tribes, individuals, and organizations that may be interested in, or affected by, the Proposed Action. This input will be used to identify issues which will drive the analysis and determine alternatives to the Proposed Action.

The comment period on the DEIS (Draft Environmental Impact Statement) will be 45 days from the date the EPA publishes the notice of availability in the Federal Register.

The Forest Service believes it is important at this early stage to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the DEIS stage but that are not raised until after completion of the FEIS (Final Environmental Impact Statement) may be waived or dismissed by the courts. Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the FEIS.

To assist the Forest Service in identifying and considering issues and concerns on the proposed action, comments on the DEIS should be as specific as possible. It is also helpful if comments refer to specific pages or chapters of the draft statement. Comments may also address the adequacy of the DEIS or the merits of the alternatives formulated and discussed in the statement. Reviewers may wish to refer to the Council on Environmental Quality Regulations for implementing the procedural provisions of the National Environmental Policy Act at 40 CFR 1503.3 in addressing these points.

As the Forest Supervisor of the Lolo National Forest, Building 24, Fort Missoula, Missoula, MT 59804, I am the responsible official. As the responsible official I will decide if the proposed project will be implemented. I will document the decision and reasons for the decision in the Record of Decision.

Dated: June 15, 2001.
Deborah L.R. Austin,
Forest Supervisor.

[FR Doc. 01-16817 Filed 7-3-01; 8:45 am]

BILLING CODE 3410-11-M